DEPARTMENT OF JUSTICE

Notice of Lodging of Consent Decree Under the Comprehensive Environmental Response, Compensation, and Liability Act

Notice is hereby given that on April 16, 2004, an electronic version of a proposed consent decree was lodged in United States v. Madison County, Florida, et al., No. 4:02 CV 215 SPM/WW (N.D. Fla.).

In the civil action, the United States alleges claims on behalf of the Administrator of the Environmental Protection Agency (“EPA”) against Madison County, Florida (the “County”) and the City of Madison, Florida (the “City”) under section 107 of the Comprehensive Environmental Response, Compensation, and Liability Act (“CERCLA”), 42 U.S.C. 9607, for response costs in connection with the Madison County Sanitary Landfill Superfund Site, in Madison County, Florida (the “Site”).

The proposed consent decree requires the County and the City to reimburse all of EPA's outstanding past costs of $797.19 and to pay future oversight costs in connection with oversight of a remedial action being performed by the County and the City under a unilateral administrative order issued by EPA.

The Department of Justice will receive for a period of thirty (30) days from the date of this publication comments relating to the Consent Decree. Comments should be addressed to the Assistant Attorney General, Environmental and Natural Resources Division, P.O. Box 7611, U.S. Department of Justice, Washington, DC 20044-7611, and should refer to United States v. Madison County, Florida, et al., No. 4:02 CV 215 SPM/WW (N.D. Fla.), DOJ # 90-11-3-1053/1.

The Consent Decree may be examined at the Office of the United States Attorney for the Northern District of Florida 111 N. Adams Street, 4th Floor, Tallahassee, FL 32301. During the public comment period, the Consent Decree may also be examined on the following Department of Justice Web site: http://www.usdoj.gov/enrd/open.html. A copy of the Consent Decree may also be obtained by mail from the Consent Decree Library, PO Box 7611, U.S. Department of Justice, Washington, DC 20044-7611, or by faxing or e-mailing a request to Tonia Fleetwood, tonia.fleetwood@usdoj.gov, Fax No. (202) 514-0097, phone confirmation number (202) 514-1547. In requesting a copy from the Consent Decree Library, please enclose a check in the amount of $8.50 (25 cents per page reproduction cost) payable to the U.S. Treasury.

Ellen M. Mahan,
Assistant Chief, Environmental Enforcement Section, Environment and Natural Resources Division.

[FR Doc. 04-10838 Filed 5-12-04; 8:45 am]

BILLING CODE 4410-15-M